CORPORATION FOR NATIONAL AND COMMUNITY SERVICE

Agency Information Collection Activities; Submission to the Office of Management and Budget for Review and Approval; Comment Request; Day of Service Application Instructions (MLK + 911)

AGENCY: Corporation for National and Community Service.

ACTION: Notice of information collection; request for comment.

SUMMARY: The Corporation for National and Community Service, operating as AmeriCorps, has submitted a public information collection request (ICR) entitled Day of Service Application Instructions (MLK + 911) for review and approval in accordance with the Paperwork Reduction Act.

DATES: Written comments must be submitted to the individual and office listed in the ADDRESSES section by February 27, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Sharron Tendai, at 202-606-3904 or by email to stendai@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on November 14, 2022, at Vol. 87 FR Page Number 68139. This comment period ended January 13, 2023. Zero public comments were received from this Notice.

Title of Collection: Day of Service Application Instructions (MLK + 911).

OMB Control Number: 3045-0180. Type of Review: Renewal.

Respondents/Affected Public: Individuals, Households, Businesses, Organizations, State, Local and Tribal Governments.

Total Estimated Number of Annual Responses: 70.

Total Estimated Number of Annual Burden Hours: 1,400.

Abstract: This information collection seeks feedback on AmeriCorps Day of Service Application Instructions for future MLK and 9/11 Day of Service grant competitions after the expiration of the current Application Instructions. AmeriCorps seeks to renew the current information collection without revisions. The information collection will be used in the same manner as the existing application. AmeriCorps also seeks to continue using the current application until the revised application is approved by OMB. The current application is due to expire on January 31, 2023.

Margery Ansara,
Acting Chief of Program Operations.

[FR Doc. 2023-01508 Filed 1-25-23; 8:45 am]

BILLING CODE 6050-28-P